DEPARTMENT OF ENERGY

[OE Docket No. EA-468]

Application To Export Electric Energy; TransCanada Energy Sales Ltd.

AGENCY: Office of Electricity, Department of Energy (DOE).

ACTION: Notice of application.

SUMMARY: TransCanada Energy Sales Ltd. (Applicant or TCES) has applied for authorization to transmit electric energy from the United States to Canada pursuant to the Federal Power Act.

DATES: Comments, protests, or motions to intervene must be submitted on or before April 22, 2019.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to 202-586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On March 6, 2019, DOE received an application from TCES for authorization to transmit electric energy from the United States to Canada as a power marketer for a five-year term using existing international transmission facilities. DOE most recently granted export authorization to TCES on May 6, 2014 for a five-year term, in Order No. EA-98-M. That Order authorized electricity exports by TCES and certain other members of WSPP Inc., which the Order described as “a non-profit organization with approximately 300 electric utility members.” In its present application, TCES requests authorization effective by May 6, 2019, to prevent lapse in its current authorization under Order No. EA-98-M, which expires on that date.

In its application, the Applicant states that it “does not own or control any generation, transmission, or distribution facilities within the United States and does not have a franchised electric power service area.” The electric energy that the Applicant proposes to export to Canada would be surplus energy purchased from third parties such as electric utilities and Federal power marketing agencies pursuant to voluntary agreements. The existing international transmission facilities to be utilized by the Applicant have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Five (5) copies of such comments, protests, or motions to intervene should be sent to the address provided above on or before the date listed above.

Comments and other filings concerning TCES's application to export electric energy to Canada should be clearly marked with OE Docket No. EA-468. An additional copy is to be provided directly to both David Farmer, TransCanada, 450-1 Street SW, Calgary, AB T2P 5H1, and Arnold B. Podgorsky, Podgorsky PLLC, 2101 L Street NW, Suite 800, Washington, DC 20037.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Angela Troy at Angela.Troy@hq.doe.gov.

Signed in Washington, DC, on March 15, 2019.
Christopher Lawrence,
Management and Program Analyst,Transmission Permitting and Technical Assistance,Office of Electricity.

[FR Doc. 2019-05399 Filed 3-20-19; 8:45 am]

BILLING CODE 6450-01-P